DEPARTMENT OF AGRICULTURE

Food and Nutrition Service

7 CFR Parts 271, 272, 274, 276 and 277

RIN 0584-AD99

Automated Data Processing and Information Retrieval System Requirements: System Testing

AGENCY: Food and Nutrition Service, USDA.

ACTION: Final rule; notice of approval of Information Collection Request (ICR).

SUMMARY: In accordance with the Paperwork Reduction Act of 1995 (PRA), the Food and Nutrition Service (FNS) is announcing the Office of Management and Budget's (OMB) approval of information collection requirements contained in a final rule published in the Federal Register.

DATES: The ICR associated with the Automated Data Processing and Information Retrieval System Requirements: System Testing rule published in the Federal Register on January 2, 2014 (79 FR 5), was approved by OMB on April 7, 2014.

FOR FURTHER INFORMATION CONTACT: Karen Painter-Jaquess, Director, State Systems Office, Food and Nutrition Service—USDA, 3101 Park Center Drive, Alexandria, VA 22302; by telephone at (303) 844-6533.

SUPPLEMENTARY INFORMATION: The rule titled Automated Data Processing and Information Retrieval System Requirements: System Testing was published on January 2, 2014. OMB cleared the associated ICR on April 7, 2014, under OMB Control Number 0584-0083. This document announces approval of the ICR.

Dated: April 28, 2014.
Audrey Rowe,
Administrator, Food and Nutrition Service.

[FR Doc. 2014-10239 Filed 5-16-14; 8:45 am]

BILLING CODE 3410-30-P